DEPARTMENT OF COMMERCE

Census Bureau

Proposed Information Collection; Comment Request; Annual Survey of Manufactures

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 27, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Julius Smith, Jr., U.S. Census Bureau, Manufacturing and Construction Division, Room 7K055, 4600 Silver Hill Road, Washington, DC 20233, (301) 763-7662 (or via the Internet at julius.smith.jr@census.gov).

SUPPLEMENTARY INFORMATION:

I. Abstract

The Census Bureau has conducted the Annual Survey of Manufactures (ASM) since 1949 to provide key measures of manufacturing activity during intercensal periods. In census years ending in “2” and “7”, we mail and collect the ASM as part of the Economic Census covering the Manufacturing Sector. This survey is an integral part of the Government's statistical program. The ASM furnishes up-to-date estimates of employment and payroll, hours and wages of production workers, value added by manufacture, cost of materials, value of shipments by product class, inventories, and expenditures for both plant and equipment and structures. The survey provides data for most of these items for each of the 5-digit and selected 6-digit industries as defined in the North American Industry Classification System (NAICS). It also provides geographic data by state at a more aggregated industry level.

The survey also provides valuable information to private companies, research organizations, and trade associations. Industry makes extensive use of the annual figures on product class shipments at the U.S. level in its market analysis, product planning, and investment planning. The ASM data are used to benchmark and reconcile monthly and quarterly data on manufacturing production and inventories. This ASM clearance request will be for the year 2011. There will be no changes to the information requested from respondents.

II. Method of Collection

The ASM statistics are based on a survey that includes both mail and nonmail components. The mail portion of the survey consists of a probability sample of approximately 51,000 manufacturing establishments that was selected from a frame of approximately 117,000 establishments. The frame contained all manufacturing establishments of multiunit companies (companies with operations at more than one location) plus the largest single-location manufacturing companies within each manufacturing industry. The nonmail component contains the remaining single-location companies; approximately 211,000 companies. No data are collected from companies in the nonmail component. Rather, data are directly obtained from the administrative records of the Internal Revenue Service (IRS), the Social Security Administration (SSA), and the Bureau of Labor Statistics (BLS). Although the nonmail companies account for nearly two-thirds of the population, they account for less than 7 percent of the manufacturing output.

The 51,000 sampled establishments in the mail portion of the ASM will be mailed either a long report form (MA-10000(L)) or a short form (MA-10000(S)) based on mail selection procedures. The MA-10000(L) will be mailed to all establishments of multiunit companies plus the large single-location companies. The remaining single-location companies in the sample will receive the MA-10000(S) form. We estimate that the MA-10000(L) will be mailed to approximately 48,000 establishments and the MA-10000(S) will be mailed to 3,000 establishments.

III. Data

OMB Control Number: 0607-0449.

Form Number: MA-10000(L), MA-10000(S). You can obtain information on the proposed content at this Web site: http://www.census.gov/mcd/clearance.

Type of Review: Regular submission.

Affected Public: Business or other for-profit, non-profit institutions, small businesses or organizations, and state or local governments.

Estimated Number of Respondents:

MA-10000(L)—(Long Form) | 48,000
MA-10000(S)—(Short Form) | 3,000
Total | 51,000

Estimated Time per Response:

MA-10000(L)—(Long Form) | 4.0 hrs.
MA-1000(S)—(Short Form) | 1.4 hrs.

Estimated Total Annual Burden Hours: 196,200.

Estimated Total Annual Cost: $6,360,804.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 21, 2011.
Gwellnar Banks,
Management Analyst, Office of the Chief Information Officer.

[FR Doc. 2011-10055 Filed 4-26-11; 8:45 am]

BILLING CODE 3510-07-P